ENVIRONMENTAL PROTECTION AGENCY

40 CFR Parts 52 and 70

[EPA-R07-OAR-2017-0485; FRL 9968-77-Region 7]

Approval of Nebraska's Air Quality Implementation Plan, Operating Permits Program, and 112(l) Program; Revision to Nebraska Administrative Code

AGENCY: Environmental Protection Agency (EPA).

ACTION: Proposed rule.

SUMMARY: The Environmental Protection Agency (EPA) is proposing to approve revisions to the State Implementation Plan (SIP), Operating Permits Program, and 112(l) program submitted on July 14, 2014, by the State of Nebraska. This action amends the SIP to revise two chapters, “Definitions” and “Operating Permit Modifications; Reopening for Cause”. Specifically, these revisions incorporate by reference the list of organic compounds exempt from the definition of volatile organic compound (VOC) found in the Code of Federal Regulations; notification requirements for the operating permit program are being amended to be consistent with the Federal operating permit program requirements; the definition of “solid waste” is being revised by the state, however, because the state's definition is inconsistent with the Federal definition, EPA is not approving this definition into the SIP. Finally, the state is extending the process of “off-permit changes” to Class I operating permits. Additional grammatical and editorial changes are being made in this revision. Approval of these revisions will not impact air quality, ensures consistency between the State and Federally-approved rules, and ensures Federal enforceability of the State's rules. In the “Rules and Regulations” section of this Federal Register, we are approving these two chapters as a direct final rule without a prior proposed rule. If we receive no adverse comment, we will not take further action on this proposed rule.

DATES: Comments must be received by November 6, 2017.

ADDRESSES: Submit your comments, identified by Docket ID No. EPA-R07-OAR-2017-0485, to https://www.regulations.gov. Follow the online instructions for submitting comments. Once submitted, comments cannot be edited or removed from Regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e. on the web, cloud, or other file sharing system). For additional submission methods, the full EPA public comment policy, information about CBI or multimedia submissions, and general guidance on making effective comments, please visit https://www2.epa.gov/dockets/commenting-epa-dockets.

FOR FURTHER INFORMATION CONTACT: Greg Crable, Environmental Protection Agency, Air Planning and Development Branch, 11201 Renner Boulevard, Lenexa, Kansas 66219 at (913) 551-7391, or by email at crable.gregory@epa.gov.

SUPPLEMENTARY INFORMATION: Nebraska's July 14, 2014, submittal included revisions to Chapters 1, 4, 15, 18, 20, 28 and 34 of title 129. In previous direct final actions, EPA approved revisions to chapter 4 “Ambient Air Quality Standards” on October 11, 2016 (81 FR 70023), and chapter 34 “Emission Sources; Testing; Monitoring” on October 7, 2016 (81 FR 69693).

This document proposes to take action on chapter 1, “Definitions”, and chapter 15, “Operating Permit Modifications; Reopening for Cause”. Revisions to chapter 1 “Definitions” involve various grammatical and numerical edits. In addition, section 160 of chapter 1 contains a definition of VOC that provides exceptions to the definition based upon a list of organic compounds, which have been determined to have negligible photochemical reactivity. The revision removes the list of VOC exceptions at section 160, and instead references the list in the Code of Federal Regulations. Revisions to title 129, chapter 1, section 139 change the notification requirements for “Section 502(b)(10) changes” making it consistent with the Federal operating permit program. And finally, Nebraska's requested revisions to the chapter 1 definition of “solid waste” are inconsistent with the Federal definition. For that reason, EPA is not approving the State's revised “solid waste” definition into the SIP.

The proposed part 70 revision to chapter 15 extends “off-permit changes”, to Class I and II operating permits as allowed under the Federal program. Additional changes ensure that chapter 15 conforms to the applicable Federal regulations, including updating section 007, which allows changes in a permitted facility without a permit revision if certain criteria is met. Finally, revisions to chapter 15 shorten notice periods under certain circumstances when changing Class I and II operating permits, and are making various grammatical revisions for clarity purposes.

Chapter 18 is not a part of the State's approved SIP, and will be addressed through a separate future rulemaking process under the CAA section 111(d). EPA has elected to address changes to chapter 20 with a future SIP revision. Chapter 28 is not a part of the State's approved SIP and therefore, no action is required by the EPA.

We have published a direct final rule approving the State's SIP revision(s) in the “Rules and Regulations” section of this Federal Register, because we view this as a noncontroversial action and anticipate no relevant adverse comment. We have explained our reasons for this action in the preamble to the direct final rule. If we receive no adverse comment, we will not take further action on this proposed rule. If we receive adverse comment, we will withdraw the direct final rule and it will not take effect. We would address all public comments in any subsequent final rule based on this proposed rule. We do not intend to institute a second comment period on this action. Any parties interested in commenting must do so at this time. For further information, please see the information provided in the ADDRESSES section of this document.

List of Subjects

40 CFR Part 52

Environmental protection, Air pollution control, Carbon monoxide, Incorporation by reference, Intergovernmental relations, Lead, Nitrogen dioxide, Ozone, Particulate matter, Reporting and recordkeeping requirements, Sulfur oxides, Volatile organic compounds.

40 CFR Part 70

Environmental protection, Administrative practice and procedure, Air pollution control, Intergovernmental relations, Operating permits, Reporting and recordkeeping requirements.

Dated: September 25, 2017.
Cathy Stepp,
Acting Regional Administrator, Region 7.

[FR Doc. 2017-21391 Filed 10-4-17; 8:45 am]

BILLING CODE 6560-50-P